DEPARTMENT OF ENERGY

Agency Information Collection Extension

AGENCY: Office of Energy Efficiency and Renewable Energy, U.S. Department of Energy.

ACTION: Submission for Office of Management and Budget (OMB) review; comment request.

SUMMARY: The Department of Energy (DOE) has submitted an information collection request to the OMB for extension under the provisions of the Paperwork Reduction Act of 1995. The information collection requests a three-year extension of its Better Buildings Challenge; Better Buildings Alliance; Better Buildings, Better Plants Voluntary Pledge Program, OMB Control Number 1910-5141. The proposed collection will be used to report the progress of participants in the DOE Better Buildings programs, including the Better Buildings Challenge, Better Buildings, Better Plants program, and the Better Buildings Alliance. These voluntary programs are intended to drive greater energy efficiency in the commercial and industrial marketplace to create savings and jobs. This will be accomplished by highlighting the ways participants overcome market barriers and persistent obstacles with replicable, marketplace solutions. These programs will showcase real solutions and partner with industry leaders to better understand policy and technical opportunities.

DATES: Comments regarding this collection must be received on or before June 19, 2019. If you anticipate that you will be submitting comments, but find it difficult to do so within the period of time allowed by this notice, please advise the OMB Desk Officer of your intention to make a submission as soon as possible. The Desk Officer may be telephoned at (202) 395-4718.

ADDRESSES: Written comments should be sent to the DOE Desk Officer, Office of Information and Regulatory Affairs, Office of Management and Budget, New Executive Office Building, Room 10102, 735 17th Street NW, Washington, DC 20503.

And to Andre de Fontaine, EE-5A/Forrestal Building, 1000 Independence Ave. SW, Washington, DC 20585, or by fax at (202) 586-9234 or by email at andre.defontaine@ee.doe.gov.

FOR FURTHER INFORMATION CONTACT: Requests for additional information or copies of the information collection instrument and instructions should be directed to Andre de Fontaine, EE-5A/Forrestal Building, 1000 Independence Ave. SW, Washington, DC 20585, or by fax at 202-586-9234 or by email at andre.defontaine@ee.doe.gov.

SUPPLEMENTARY INFORMATION: This information collection request contains: (1) OMB No.: 1910-5141; (2) Information Collection Request Title: Better Buildings Challenge; Better Buildings Alliance; Better Buildings, Better Plants Voluntary Pledge Program; (3) Type of Request: Renewal, with changes; (4) Purpose: This Information Collection Request applies to three Department of Energy (DOE) voluntary leadership initiatives that fall under the Better Buildings Initiative: (A) The Better Buildings Challenge; (B) the Better Buildings, Better Plants Program; and (C) the Better Buildings Alliance. New information is being collected to provide partners with two new recognition opportunities. Additionally, other pre-existing collection forms are being amended for clarity and to reduce burden on respondents. Finally, the total number of respondents for individual program areas is being adjusted to align with practical experience and to account for the fact that certain one-time reporting requirements have already been satisfied by a majority of the participants.; (5) Annual Estimated Number of Respondents: 830; (6) Annual Estimated Number of Total Responses: 857; (7) Annual Estimated Number of Burden Hours: 2292.25.; (8) Annual Estimated Reporting and Recordkeeping Cost Burden: $99,552.

Statutory Authority: Section 421 of the Energy Independence and Security Act of 2007 (42 U.S.C. 17081); Section 911 of the Energy Policy Act of 2005, as amended (42 U.S.C. 16191).

Signed in Washington, DC, on May 13, 2019.
Maria Vargas,
Director, Better Buildings Challenge, Office of Energy Efficiency and Renewable Energy.

[FR Doc. 2019-10428 Filed 5-17-19; 8:45 am]

BILLING CODE 6450-01-P